SMALL BUSINESS ADMINISTRATION

13 CFR Parts 121, 124, and 134

RIN 3245-AE71

Small Business Size Regulations; 8(a) Business Development/Small Disadvantaged Business Status Determinations; Rules of Procedure Governing Cases Before the Office of Hearings and Appeals

AGENCY: Small Business Administration.

ACTION: Proposed rule; correction.

SUMMARY: This document corrects the Regulatory Information Number (RIN) to the proposed rule published in the Federal Register on March 12, 2002. The rule proposes to amend its regulations governing proceedings before the Office of Hearings and Appeals and to make conforming changes to several sections of the regulations governing the Small Business Size Determination program and the 8(a) Business Development (8(a) BD) program. This document corrects the RIN.

FOR FURTHER INFORMATION CONTACT: Michael J. Wolter, 202-401-1420.

Correction

The Small Business Administration published a document in the Federal Register on March 12, 2002, 67 FR 11057, mistakenly referring to RIN 3245-AE92. This correction provides the correct RIN.

In proposed rule FR Doc. 02-5613 published on March 12, 2002 (67 FR 11057) make the following correction. On page 11057, in the first column, remove “RIN: 3245-AE92” and replace with “RIN: 3245-AE71.”

Dated: March 15, 2002.
Gloria E. Blazsik,
Acting Assistant Administrator for Office of Hearings and Appeals.

[FR Doc. 02-6792 Filed 3-20-02; 8:45 am]

BILLING CODE 8025-01-P